DEPARTMENT OF HOMELAND SECURITY

Office of the Secretary

Public Workshop: Privacy Compliance Workshop

AGENCY: Privacy Office, DHS.

ACTION: Notice Announcing Public Workshop.

SUMMARY: The Department of Homeland Security Privacy Office will host a public workshop, “Privacy Compliance Workshop.”

DATES: The workshop will be held on June 20, 2012, from 8:30 a.m. to 4:30 p.m.

ADDRESSES: The workshop will be held in the conference center at the Federal Trade Commission Building located at 601 New Jersey Avenue NW., Washington, DC 20001.

FOR FURTHER INFORMATION CONTACT: Rebecca Richards, Privacy Office, Department of Homeland Security, Washington, DC 20528; by telephone 703-235-0780; by facsimile 703-235-0442; or by email at PIA@dhs.gov.

SUPPLEMENTARY INFORMATION: The Department of Homeland Security (DHS) Privacy Office will conduct a free public workshop open to all federal employees and contractors to provide in-depth training on the privacy compliance process at DHS. The morning session will consist of overview presentations, including the privacy compliance fundamentals, privacy and data security, and the privacy compliance life cycle. A learning lunch will provide attendees with the opportunity to interact with compliance experts at DHS. The afternoon sessions will cover advanced presentations, including the Paperwork Reduction Act, the Freedom of Information Act, Privacy Compliance Reviews, and program case studies.

Registration and Security: In order to facilitate security requirements of the FTC facility, attendees must register in advance for this workshop. Registration closes at 5:00 p.m., Friday, June 15, 2012. To register, please send an email to privacyworkshop@hq.dhs.gov, with “PRIVComplianceWorkshop” in the subject line, and include your full name, email address and organizational affiliation in the body of the email. Alternatively, you may call 703-235-0780 to register and to provide the Privacy Office with your full name and organizational affiliation.

All attendees who are employed by a federal agency will be required to show their federal agency employee photo identification badge to enter the building. Attendees who do not possess a federal agency employee photo identification badge will need to show a form of government-issued photo identification, such as a driver's license, in order to verify their previously-provided registration information.

The Privacy Office will only use your name for the security purposes of this specific workshop and to contact you in the event of a change to the workshop.

Special Assistance: The workshop site is fully handicapped accessible, with both the training rooms and restrooms situated on the ground floor.

Mary Ellen Callahan,
Chief Privacy Officer, U.S. Department of Homeland Security.

[FR Doc. 2012-12829 Filed 5-24-12; 8:45 am]

BILLING CODE 9110-9L-P